DEPARTMENT OF COMMERCE

International Trade Administration

[A-570-836]

Glycine From the People's Republic of China: Final Results of Antidumping Duty Administrative Review and Partial Rescission of Antidumping Duty Administrative Review; 2013-2014

AGENCY: Enforcement and Compliance, International Trade Administration, Department of Commerce.

DATES: Effective Date: October 15, 2015.

SUMMARY: On April 8, 2015, the Department of Commerce (the Department) published the preliminary results of the administrative review of the antidumping duty order on glycine from the People's Republic of China (PRC).¹ We gave interested parties an opportunity to comment on the Preliminary Results. Based upon our analysis of the comments and information we received, we made changes to the margin calculation for Baoding Mantong Fine Chemistry Co., Ltd. (Baoding Mantong) for these final results. The final antidumping duty margin for Baoding Mantong for this review is listed in the “Final Results of Review” section below.

¹ See Glycine from the People's Republic of China: Preliminary Results of Antidumping Duty Administrative Review and Preliminary Intent to Rescind, In Part; 2013-2014, 80 FR 18814 (April 8, 2015) (Preliminary Results).

FOR FURTHER INFORMATION CONTACT: Dena Crossland or Angelica Townshend, AD/CVD Operations, Office VI, Enforcement and Compliance, International Trade Administration, U.S. Department of Commerce, 14th Street and Constitution Avenue NW., Washington, DC 20230; telephone: (202) 482-3362 or (202) 482-3019, respectively.

SUPPLEMENTARY INFORMATION:

Background

On April 8, 2015, the Department published the Preliminary Results. A summary of the events that occurred since the Department published the Preliminary Results may be found in the Issues and Decision Memorandum accompanying this notice, which is hereby adopted by this notice.² The Issues and Decision Memorandum is a public document and is on file electronically via Enforcement and Compliance's Antidumping and Countervailing Duty Centralized Electronic Service System (ACCESS). ACCESS is available to registered users at http://iaaccess.trade.gov and is available to all parties in the Central Records Unit, Room B8024 of the main Department of Commerce building. In addition, a complete version of the Issues and Decision Memorandum can be accessed directly at http://enforcement.trade.gov/frn/. The signed and electronic versions of the memorandum are identical in content.

² See Memorandum to Paul Piquado, Assistant Secretary for Enforcement and Compliance from Christian Marsh, Deputy Assistant Secretary for Antidumping and Countervailing Duty Operations entitled “Glycine from the People's Republic of China: Issues and Decision Memorandum for the Final Results of Antidumping Duty Administrative Review; 2013-2014” dated October 5, 2015 (Issues and Decision Memorandum).

Final Partial Rescission of Review

In our Preliminary Results, we preliminarily rescinded the review with respect to Evonik.³ For the Final Results, we are continuing to rescind the administrative review with respect to Evonik.⁴

³ See Preliminary Results.

⁴ See Issues and Decision Memorandum at Comment 6.

Period of Review

The period of review (POR) is March 1, 2013, through February 28, 2014.

Scope of the Order

The product covered by this antidumping duty order is glycine, which is a free-flowing crystalline material, like salt or sugar. Glycine is currently classified under subheading 2922.49.4020 of the Harmonized Tariff Schedule of the United States (HTSUS). Although the HTSUS subheading is provided for convenience and customs purposes, the written description of the merchandise under the order is dispositive.⁵

⁵ For a full description of the scope of the order, see the Issues and Decision Memorandum.

Analysis of Comments Received

All issues raised in the case and rebuttal briefs by parties to this review are addressed in the Issues and Decision Memorandum accompanying this notice, which is hereby adopted by this notice. A list of the issues which the parties raised and to which the Department responded in the memorandum appears in Appendix I of this notice.

Changes Since the Preliminary Results

Based on our review and analysis of the comments received from parties, we made certain changes to Baoding Mantong's margin calculation since the Preliminary Results. For a discussion of these changes, see the Issues and Decision Memorandum, and accompanying Final Analysis Memorandum for Baoding Mantong, dated concurrently with this notice.

Final Results of Review

The Department determines that the following estimated weighted-average dumping margin exists for the period March 1, 2013, through February 28, 2014:

Exporter | Dumping margin (percent)
Baoding Mantong Fine Chemistry Co. Ltd | 143.87

Assessment Rates

The Department determined, and the U.S. Customs and Border Protection (CBP) shall assess, antidumping duties on all appropriate entries of subject merchandise in accordance with the final results of this review.⁶ The Department intends to issue assessment instructions to CBP 15 days after the date of publication of these final results of review.

⁶ See 19 CFR 351.212(b).

Cash Deposit Requirements

The following cash-deposit requirements will be effective for all shipments of subject merchandise entered, or withdrawn from warehouse, for consumption on or after the publication date of this notice of final results of the administrative review, as provided by section 751(a)(2)(C) of the Tariff Act of 1930, as amended: (1) For any previously investigated or reviewed PRC and non-PRC exporters which are not under review in this segment of the proceeding that received a separate rate in a previous segment of this proceeding, the cash-deposit rate will continue to be the exporter-specific rate published for the most recently-completed period; (2) for all PRC exporters of subject merchandise which have not been found to be entitled to a separate rate, including Evonik, the cash-deposit rate will be that for the PRC-wide entity (i.e., 453.79 percent); and (3) for all non-PRC exporters of subject merchandise which have not received their own rate, the cash-deposit rate will be the rate applicable to the PRC exporter(s) that supplied the non-PRC exporter. These cash-deposit requirements, when imposed, shall remain in effect until further notice.

Notification to Importers

This notice serves as a final reminder to importers of their responsibility under 19 CFR 351.402(f)(2) to file a certificate regarding the reimbursement of antidumping duties prior to liquidation of the relevant entries during this period of review. Failure to comply with this requirement could result in the Department's presumption that reimbursement of antidumping duties occurred and the subsequent assessment of double antidumping duties.

Administrative Protective Order

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a sanctionable violation.

We are issuing and publishing these final results and this notice in accordance with sections 751(a)(1) and 777(i) of the Act.

Dated: October 5, 2015.
Paul Piquado,
Assistant Secretary for Enforcement and Compliance.

Appendix I

List of Topics Discussed in the Issues and Decision Memorandum

I. Summary

II. List of Issues

III. Background

IV. Scope of the Review

V. Period of Review

VI. Changes Since the Preliminary Results

VII. Discussion of Interested Party Comments

A. Baoding Mantong-Specific Issues

Comment 1: Whether the Review Should Be Rescinded With Regard to Baoding Mantong

Comment 2: Whether Baoding Mantong's Sale was a Bona Fide Sale

Comment 3: Whether Baoding Mantong's Requested By-Product Offset Should Be Denied or Valued at Zero or the Lowest Available Value on the Record

Comment 4: Surrogate Financial Ratios

B. Evonik-Specific Issues

Comment 5: Whether Evonik's Sales Were Bona Fide

Comment 6: Whether the 453.79 Percent PRC-Wide Rate is Accordance With Law

[FR Doc. 2015-26270 Filed 10-14-15; 8:45 am]

BILLING CODE 3510-DS-P